DEPARTMENT OF HEALTH AND HUMAN SERVICES

Food and Drug Administration

21 CFR Part 4

[Docket No. FDA-2009-N-0435]

Current Good Manufacturing Practice Requirements for Combination Products; Correction

AGENCY: Food and Drug Administration, HHS.

ACTION: Proposed rule; correction.

SUMMARY: The Food and Drug Administration (FDA) is correcting a proposed rule that appeared in the Federal Register of September 23, 2009 (74 FR 48423). The document proposed to codify the current good manufacturing practice requirements applicable to combination products. The document published with an incorrect docket number. This document corrects that error.

FOR FURTHER INFORMATION CONTACT: Joyce Strong, Office of Policy (HF-27), Food and Drug Administration, 5600 Fishers Lane, Rockville, MD 20857, 301-827-7010.

SUPPLEMENTARY INFORMATION: In FR Doc. E9-22850, appearing on page 48423, in the Federal Register of Wednesday, September 23, 2009, the following corrections are made:

1. On page 48423, in the third column, in the Docket No. heading, “[Docket No. FDA-2008-D-0409]” is corrected to read “[Docket No. FDA-2009-N-0435]”.

2. On page 48423, in the third column, in the ADDRESSES section, beginning in the second line, “[Docket No. FDA-2008-D-0409] (formerly Docket No. 2004D-0431)” is corrected to read “[Docket No. FDA-2009-N-0435]”.

Dated: September 28, 2009.
David Horowitz,
Assistant Commissioner for Policy.

[FR Doc. E9-23899 Filed 10-2-09; 8:45 am]

BILLING CODE 4160-01-S